NATIONAL AERONAUTICS AND SPACE ADMINISTRATION

48 CFR Parts 1807, 1813, 1816, 1835, 1842, 1845, 1852, and 1872

Acquisition Regulations; Miscellaneous Changes

AGENCY: National Aeronautics and Space Administration (NASA).

ACTION: Final rule.

SUMMARY: This is a final rule amending the NASA FAR Supplement (NFS) to make miscellaneous administrative and editorial changes.

EFFECTIVE DATE: December 28, 2000.

FOR FURTHER INFORMATION CONTACT: Celeste Dalton, NASA Headquarters, Office of Procurement, Contract Management Division (Code HK), Washington, DC 20546, telephone: (202) 358-1645; email: cdalton@hq.nasa.gov.

SUPPLEMENTARY INFORMATION:

A. Background

This final rule (1) provides guidance on what should be addressed in NASA's Governmentwide purchase card training for purchase cardholders and approving officials; (2) deletes the NASA coverage for addressing contract bundling in acquisition plans which is duplicative of FAR coverage contained in Federal Acquisition Circular 97-15; (3) clarifies guidance on NASA's external audit follow-up system; and (4) makes technical corrections in Parts 1816, 1835, 1842, 1845, 1852, and 1872.

B. Regulatory Flexibility Act

This final rule does not constitute a significant revision within the meaning of FAR 1.501 and Pub. L. 98-577, and publication for comments is not required. However, comments from small business entities concerning the affected NFS coverage will be considered in accordance with 5 U.S.C. 610. Such comments may be submitted separately and should cite 5 U.S.C. 601, et seq.

C. Paperwork Reduction Act

The Paperwork Reduction Act does not apply because the changes to the NFS do not impose any recordkeeping or information collection requirements that require the approval of the Office of Management and Budget under 44 U.S.C. 3501, et seq.

List of Subjects in 48 CFR Parts 1807, 1813, 1816, 1835, 1842, 1845, 1852, and 1872

Government procurement.

Tom Luedtke,
Associate Administrator for Procurement.

Accordingly, 48 CFR Parts 1807, 1813, 1816, 1835, 1842, 1845, 1852, and 1872 are amended as follows:

1. The authority citation for 48 CFR Parts 1807, 1813, 1816, 1835, 1842, 1845, 1852, and 1872 continues to read as follows:

Authority: 42 U.S.C. 2473(c)(1)

PART 1807—ACQUISITION PLANNING

1807.105 [Amended]

2. Remove paragraph (b)(1) in section 1807.105.

PART 1813—SIMPLIFIED ACQUISITION PROCEDURES

3. Add section 1813.301-71 to read as follows:

1813.301-71 Training.

All cardholders and approving officials must complete training prior to receiving a purchase card. Training will address the responsibilities of the cardholder and approving official, prohibited purchases, purchase limitations, and sources of supply.

PART 1816—TYPES OF CONTRACTS

4. In section 1816.203-4, revise paragraph (a) to read as follows:

1816.203-4 Contract clauses.

(a) In addition to the approval requirements in the prescriptions at FAR 52.216-2 through 52.216-4, the contracting officer shall coordinate with the installation's Deputy Chief Financial Officer (Finance) before exceeding the ten-percent limit in paragraph (c)(1) of the clauses at FAR 52.216-2 and 52.216-3 and paragraph (c)(4) of the clause at 52.216-4.

* * * * *

PART 1835—RESEARCH AND DEVELOPMENT CONTRACTING

1835.017-71 [Amended]

5. In section 1835.016-71, amend the first sentence of paragraph (b)(2) by removing “and 1805.201”.

PART 1842—CONTRACT ADMINISTRATION AND AUDIT SERVICES

6. Revise section 1842.1501 to read as follows:

1842.1501 General.

Communications with contractors are vital to improved performance and this is NASA's primary objective in evaluating past performance. Other objectives include providing data for future source selections. While the evaluations must reflect both shortcomings and achievements during performance, they should also elicit from the contractors their views on impediments to improved performance emanating from the Government or other sources.

7. Revise section 1842.7301 to read as follows:

1842.7301 NASA external audit follow-up system.

(a) This section implements OMB Circular No. A-50 and NASA Policy Directive (NPD) 1200.10 “Internal Management Controls and Audit Liaison and Followup”, which provide more detailed guidance. Recommendations from external audits (OMB Circular No. A-133, Audits of States, Local Governments, and Non-Profit Institutions) shall be resolved by formal review and approval procedures analogous to those at 1815.406-171.

(b) The external audit followup system tracks all contract and OMB Circular No. A-133 audits where NASA has resolution and disposition authority. The objective of the tracking system is to ensure that audit recommendations are resolved within 6 months after receipt of the audit report and corrected as expeditiously as possible.

(c)(1) The identification and tracking of contract audit reports under NASA cognizance are accomplished in cooperation with the DCAA.

(2) Identification and tracking of OMB Circular No. A-133 audit reports are accomplished in cooperation with the NASA Office of the Inspector General (OIG).

(d)(1) All reportable contract audit reports as defined by Chapter 15, Section 6, of the DCAA Contract Audit Manual (CAM) shall be reported quarterly to the Headquarters Office of Procurement (Code HK); and

(2) Only OMB Circular No. A-133 audit reports involving the following shall be reported quarterly to Code HK:

(i) A significant management control issue; or

(ii) Questioned costs of $10,000 or more due to an audit finding (see Subpart E-Auditor, paragraph 510 of OMB Circular No. A-133).

(3) NASA contracting officers will maintain a dialogue with DOD Administrative Contracting Officers (ACO) who have been delegated activities on NASA contracts. A review will be conducted no less frequently than semiannually, and the status and disposition of significant audit findings will be documented in the contract file. During this review, NASA contracting officers should discuss with the ACO both prime and subcontract audit reports that have been delegated to DOD. Should these reports contain any findings or recommendations, the NASA contracting officer should obtain their status and document the contract file accordingly.

(e)(1) The terms “resolution” and “disposition” are defined in as follows:

(i) Resolution—The point at which the IG and Management agree on the action to be taken on audit report findings and recommendations.

(ii) Corrective action—Management action responsive to an agreed upon audit recommendation.

(2) The resolution and disposition of OMB Circular No. A-133 audits are handled as follows:

(i) Audit findings pertaining to an individual NASA award are the responsibility of the procurement officer administering that award.

(ii) Audit findings having a Governmentwide impact are the responsibility of the cognizant Federal agency responsible for oversight. For organizations subject to OMB Circular No. A-133, there is either a cognizant agency or an oversight agency. The cognizant agency is the Federal agency that provides the predominant amount of direct funding to the recipient organization unless OMB makes a specific cognizant agency for audit assignment. To provide for the continuity of cognizance, the determination of the predominant amount of direct funding will be based on the direct Federal awards expended in the recipient's fiscal years ending in 1995, 2000, 2005, and every fifth year thereafter. When there is no direct funding, the Federal agency with the predominant indirect funding is to assume the oversight responsibilities. In cases where NASA is the cognizant or oversight Federal agency, audit resolution and disposition is the responsibility of the procurement officer for the Center having the largest amount of direct funding, or, if there is no direct funding, the largest amount of indirect funding for the audited period. A copy of the memorandum dispositioning the findings shall be provided by each Center having resolution responsibility for the particular report to the Headquarters OIG office and Code HK.

PART 1845—GOVERNMENT PROPERTY

8. In section 1845.7101-1, revise paragraph (c) to read as follows:

1845.7101-1 Property classification.

* * * * *

(c) Buildings. Includes costs of buildings, improvements to buildings, and fixed equipment required for the operation of a building which is permanently attached to and a part of the building and cannot be removed without cutting into the walls, ceilings, or floors. Contractors shall report buildings with a unit acquisition cost of $100,000 or more. Examples of fixed equipment required for functioning of a building include plumbing, heating and lighting equipment, elevators, central air conditioning systems, and built-in safes and vaults.

* * * * *

PART 1852—SOLICITATION PROVISIONS AND CONTRACT CLAUSES

1852.247-73 Shipment by Government Bills of Lading.

9. Amend the date of the clause at section 1852.247-73 by removing “(MARCH 1997)” and adding “(OCTOBER 2000)” in its place.

PART 1872—ACQUISITIONS OF INVESTIGATIONS

1872.305 [Amended]

10. Amend section 1872.305 by removing “Appendix A” in paragraph (b).

1872.306 [Amended]

11. Amend section 1872.306 by removing “Appendix B” and adding “1872.705-2” in its place.

12. Revise section 1872.307 to read as follows:

1872.307 Guidelines for proposal preparation.

While not all of the guidelines outlined in 1872.705-2 will be applicable in response to every AO, the investigator should be informed of the relevant information required. The proposal may be submitted on a form supplied by the Program Office. However, the proposal should be submitted in at least two sections:

(a) Investigation and Technical Plan; and

(b) Management and Cost Plan as described in 1872.705-2.

1872.705 [Amended]

13. Amend Part VI of section 1872.705 by removing “Appendix C” in paragraph (b)(5) and adding “Appendix B” in its place and removing “General Instructions and Provisions” in paragraphs (d) and (e) and adding “Guidelines for Proposal Preparation” in its place.

[FR Doc. 00-32962 Filed 12-27-00; 8:45 am]

BILLING CODE 7510-01-P